DEPARTMENT OF HEALTH AND HUMAN SERVICES

Health Resources and Services Administration

National Advisory Committee on Rural Health and Human Services; Notice of Meeting

In accordance with section 10(a)(2) of the Federal Advisory Committee Act (Pub. L. 92-463), announcement is made of the following National Advisory body scheduled to meet during the month of April 2014.

The National Advisory Committee on Rural Health will convene its seventy fifth meeting in the time and place specified below:

Name: National Advisory Committee on Rural Health and Human Services.

Dates and Time: April 28, 2014, 8:45 a.m.-5:30 p.m. April 29, 2014, 9:00 a.m.-5:00 p.m. April 30, 2014, 8:30 a.m.-10:30 a.m.

Place: University of Nebraska Medical Center, Michael F. Sorrell Center for Health Science Education, 649 South 42nd Street, Omaha, NE 68105, (402) 559-8550.

Status: The meeting will be open to the public.

Purpose: The National Advisory Committee on Rural Health and Human Services (the Committee) provides counsel and recommendations to the Secretary with respect to the delivery, research, development, and administration of health and human services in rural areas.

Agenda: Monday morning, at 8:45 a.m., the meeting will be called to order by the Chairperson of the Committee: the Honorable Ronnie Musgrove. The Committee will assess how rural residents are served by the new insurance coverage opportunities afforded by the Affordable Care Act. The Committee will also examine the issue of rural homelessness. The day will conclude with a period of public comment at approximately 5:00 p.m.

Tuesday morning at approximately 9:00 a.m., the Committee will break into Subcommittees and depart for site visits to health care and human services' providers in Iowa and Nebraska. One panel from the Health Subcommittee will visit Nemaha County Hospital in Auburn, Nebraska. Another panel from the Health Subcommittee will visit Myrtue Medical Center in Harlan, Iowa. The Human Services Subcommittee will visit the Northeast Nebraska Community Action Partnership, in Fremont, Nebraska. The day will conclude at the Sorrell Center for Health Science Education with a period of public comment at approximately 5:15 p.m.

Wednesday morning at 8:30 a.m., the Committee will meet to summarize key findings and develop a work plan for the next quarter and the following meeting.

FOR FURTHER INFORMATION CONTACT: Steve Hirsch, MSLS, Executive Secretary, National Advisory Committee on Rural Health and Human Services, Health Resources and Services Administration, Parklawn Building, Room 5A-05, 5600 Fishers Lane, Rockville, MD 20857, telephone (301) 443-7322, fax (301) 443-2803.

Persons interested in attending any portion of the meeting should contact Kristen Lee at the Office of Rural Health Policy (ORHP) via telephone at (301) 443-6884 or by email at klee1@hrsa.gov. The Committee meeting agenda will be posted on ORHP's Web site http://www.hrsa.gov/advisorycommittees/rural/.

Dated: March 12, 2014.
Jackie Painter,
Deputy Director, Division of Policy and Information Coordination.

[FR Doc. 2014-05950 Filed 3-17-14; 8:45 am]

BILLING CODE 4165-15-P